DEPARTMENT OF TRANSPORTATION

Surface Transportation Board

[STB Finance Docket No. 35015]

Kaw River Railroad, Inc.—Lease and Operation Exemption ¹—BNSF Railway Company

¹ The original notice did not include “operation” in the title. Because it is clear that KRR will also become the operator of the leased lines, the title has been revised accordingly.

Kaw River Railroad, Inc. (KRR), a Class III rail carrier, has filed a verified notice of exemption under 49 CFR 1150.41 to lease from BNSF Railway Company (BNSF) and operate approximately 14.66 miles of rail lines located in BNSF's Bedford Yard and the Bedford Industrial Park, in North Kansas City, MO, as follows: Track Numbers 1601 through 1605, including associated lead Track Numbers 1 through 10 coming off of Track Number 1606, and Track Number 1606 starting on the west end from the clearance point of the switch with Track Number 1502. In conjunction with the lease of these rail lines, KRR will acquire incidental, restricted overhead trackage rights over a 1.52-mile BNSF rail line located between the Bedford Yard and the Kansas City Southern Railway Company (KCS) track leading to KCS's Knoche Yard via the ASB Bridge, in North Kansas City.

KRR certifies that its projected annual revenues as a result of this transaction will not result in the creation of a Class II or Class I rail carrier and will not exceed $5 million.

The earliest this transaction may be consummated is the May 6, 2007 effective date of the exemption (30 days after the exemption was filed).

If the verified notice contains false or misleading information, the exemption is void ab initio. Petitions to revoke the exemption under 49 U.S.C. 10502(d) may be filed at any time. The filing of a petition to revoke will not automatically stay the transaction. Petitions for stay must be filed no later than April 27, 2007.

An original and 10 copies of all pleadings, referring to STB Finance Docket No. 35015, must be filed with the Surface Transportation Board, 395 E. Street, SW., Washington, DC 20423-0001. In addition, a copy of each pleading must be served on Karl Morell, 1455 F Street, NW., Suite 225, Washington, DC 20005.

Board decisions and notices are available on our Web site at http://www.stb.dot.gov.

Decided: April 12, 2007.
By the Board, David M. Konschnik, Director, Office of Proceedings.
Vernon A. Williams,
Secretary.

[FR Doc. E7-7544 Filed 4-19-07; 8:45 am]

BILLING CODE 4915-01-P